DEPARTMENT OF AGRICULTURE

Rural Business-Cooperative Service

Request for Proposals: Fiscal Year 2002 Funding Opportunity for 1890 Land Grant Institutions Rural Entrepreneurial Program Outreach Initiative

AGENCY: Rural Business-Cooperative Service, USDA.

ACTION: Notice.

SUMMARY: The Rural Business-Cooperative Service (RBS) announces the availability of approximately $1.5 million in competitive cooperative agreement funds allocated from fiscal year 2002 budget. RBS hereby requests proposals from Tuskegee University and the 1890 Land Grant Universities (1890 Institutions) interested in applying for competitively awarded cooperative agreements for support of RBS' mission goals and objectives of outreach to small rural communities and to develop programs that will develop future entrepreneurs and businesses in rural America in those communities that have the most economic need. These programs must provide sustainable development that is in keeping with the needs of the community and designed to help overcome current identified economic problems. Proposals in both traditional and nontraditional business enterprises are encouraged. The initiative seeks to create a working partnership between the 1890 Institutions and RBS through cooperative agreements.

Eligible applicants must provide matching funds in support of this project. Matching funds must equal at least 25 percent of the amount provided by RBS in the cooperative agreement. This Notice lists the information needed to submit an application for these funds.

DATES: Cooperative agreement applications must be received by 4 p.m. August 29, 2002. Proposals received after August 29, 2002, will not be considered for funding. Comments regarding the information collection requirements under the Paperwork Reduction Act of 1995 must be received on or before September 13, 2002 to be considered.

ADDRESSES: Send proposals and other required materials to Mr. Edgar L. Lewis, Program Manager, Rural Business-Cooperative Service, USDA, Stop 3252, Room 4221, 1400 Independence Avenue SW., Washington, DC 20250-3252. Telephone: (202) 690-3407, E-mail: edgar.lewis@usda.gov.

FOR FURTHER INFORMATION CONTACT: Mr. Edgar L. Lewis, Program Manager, Rural Business-Cooperative Service, USDA, Stop 3252, Room 4221, 1400 Independence Avenue SW., Washington, DC 20250-3252. Telephone: (202) 690-3407, E-mail: edgar.lewis@usda.gov.

SUPPLEMENTARY INFORMATION:

General Information

This solicitation is issued pursuant to section 607(b)(4) of the Rural Development Act of 1972, as amended by section 759A of the Federal Agriculture Improvement and Reform Act of 1996. Also, this solicitation is issued pursuant to Executive Order 13256 (February 12, 2002), “President's Board of Advisors on Historically Black Colleges and Universities.” RBS was established by the Department of Agriculture Reorganization Act of 1994. The mission of RBS is to improve the quality of life in rural America by financing community facilities and businesses, providing technical assistance, and creating effective strategies for rural development.

The purpose of the 1890 Land Grant Institutions Rural Entrepreneurial Program Outreach Initiative is to develop programs that will develop future entrepreneurs and businesses in rural America in those communities that have the most economic need. These programs must provide sustainable development that is in keeping with the needs of the community and are designed to help overcome current identified economic problems. Proposals in both traditional and nontraditional business enterprises are encouraged. The initiative seeks to create a working partnership through cooperative agreements between 1890 Institutions and RBS, to develop programs to assist future entrepreneurs and businesses.

RBS plans to use cooperative agreements with the 1890 Institutions to strengthen the capacity of these communities to undertake innovative, comprehensive, citizen led, long-term strategies for community and economic development. The cooperative agreements will be for an outreach effort to promote RBS programs and shall include, but not limited to:

(1) Developing a program of business startup and technical assistance for assisting with new business development, business planning, franchise startup and consulting, business expansion studies, marketing analysis, cashflow management, and seminars and workshops for small businesses;

(2) Developing management and technical assistance plans that will:

(i) Assess small business alternatives to traditional agricultural and other natural resource based industries;

(ii) Assist in the development of business plans or loan packages, marketing, or bookkeeping;

(iii) Assist and train small businesses in customer relations, product development, or business planning and development.

(3) Assessing and conducting feasibility studies of local community weaknesses and strengths, feasible alternatives to agricultural production, and the necessary infrastructure to expand or develop new or existing businesses;

(4) Providing community leaders with advice and recommendations regarding best practices in community economic development stimulus programs for their communities;

(5) Conducting seminars to disseminate information to stimulate business and economic development in selected rural communities; and

(6) Establishing and maintaining a computer network system, linking community leaders and residents to available economic development information.

To obtain application instructions and all required forms, please contact Cooperative Services Program at (202) 690-3407 or FAX (202) 690-2723. The application forms and instructions may also be requested via e-mail by sending a message with your name, mailing address, and phone number to edgar.lewis@usda.gov. The application forms and instructions will be mailed to you (not e-mailed or faxed) as quickly as possible. When calling or e-mailing Cooperative Services, please indicate that you are requesting application forms and instructions for fiscal year (FY) 2002 1890 Land Grant Institutions Rural Entrepreneurial Program Outreach Initiative.

Use of Funds

Funds may be used to pay up to 75 percent of the costs for carrying out relevant projects. Applicants' contributions may be in cash or in-kind contributions and must be from non-Federal funds. Funds may not be used to: (1) Pay more than 75 percent of relevant project or administrative costs; (2) pay costs of preparing the application package; (3) fund political activities; (4) pay costs prior to the effective date of the cooperative agreement; (5) proposals may not provide for revolving funds; (6) construction; (7) any activities where there are or may appear to be a conflict of interest; (8) paying obligations before the date of the cooperative agreement; or (9) purchasing real estate.

Based on Section 708 Agriculture, Rural Development, Food and Drug Administration, and Related Agencies Appropriations Act, 2002, (Pub. L. 107-76, Nov. 28, 2001) “No funds appropriated by this Act may be used to pay indirect cost rates on cooperative agreements or similar arrangements between the United States Department of Agriculture and nonprofit institutions in excess of 10 percent of the total cost of the agreement when the purpose of such cooperative arrangement is to carry out programs of mutual interest between the two parties.”

Available Funds and Award Limitations

The total amount of funds available in FY 2002 for support of this program is approximately $1.5 million. Applicants should request a budget commensurate with the project proposed. Total funds to be awarded will be distributed to the 1890 Institutions competitively, for the purpose of conducting outreach and providing technical assistance to small rural communities. This outreach initiative includes, but is not limited to, technical assistance in economic and community development, feasibility studies, research, market development, loan packaging, conducting workshops and seminars in the area of business and economic development, and developing and providing access to computer web sites in the targeted population and communities. The actual number of cooperative agreements funded will depend on the quality of proposals received and the amount of funding requested. Maximum amount of Federal funds awarded for any one proposal will be $150,000. It is anticipated that a typical award would range from $75,000 to $150,000.

Eligible Applicants and Beneficiaries

Eligible applicants are 1890 Institutions. Eligible applicants must provide matching funds equal to at least 25 percent of the amount provided by RBS in the cooperative agreement. Matching funds must be spent in proportion to the spending of funds received from the cooperative agreement. Applicant, and the assigned personnel, must also have expertise and experience in providing the recommended assistance. Applicants should also have a previous record of successful implementation of similar projects and must have the expertise in the use of electronic network technologies and/or a business information system network web site.

Eligible beneficiaries must be located in a rural area as defined in 7 U.S.C. 1991 (a)(b) with economic need. Economic need can be demonstrated by the methods delineated in the evaluation section of this notice. Location in an Empowerment Zone, Enterprise Community, or Champion Community is sufficient evidence of economic need. Eligible beneficiaries must also be located in communities that show significant community support for the proposal. Preference will be given for projects that operate in a multi-county service area.

Methods for Evaluating and Ranking Applications

Applications will be collectively evaluated at the end of the application period and will be rated and ranked by a review panel based on the criteria and weights found in the next section. If there is a tie score after the proposals have been rated and ranked, the tie will be resolved by lottery. If such a lottery is required, the names of all tied applicants will be entered into a drawing. The first applicant drawn will receive the highest rank among the ties, with the next draw receiving the next rank.

Evaluation Criteria and Weights

Proposals will be evaluated using the following seven criteria. Each criterion is given the weight value shown with total points equal to 100. Points do not have to be awarded by RBS for each criterion. After all proposals have been evaluated, the Administrator may award an additional 10 discretionary points to any proposal to obtain the broadest geographic dispersion of the funds, insure a broad diversity of project proposals, or insure a broad diversity in the size of the awards.

1. Support of Local Community (Up to 10 points)—Proposals should have the support of local government, educational, community, and business groups. Higher points will be awarded for proposals demonstrating broad support from all four components of the community. Broad support is demonstrated by tangible contribution, such as volunteering human capital, computers, transportation and/or co-sponsoring workshops and conferences. Points will be awarded based on the level of tangible contribution in comparison to the size of the award.

2. Matching Funds/Leveraging (Up to 15 points)—Points will be awarded based upon the amount the proposal exceeds the minimum 25 percent matching requirement. Applicants will be required to provide matching funds or equivalent in-kind in support of this project. Evidence of matching funds availability must be provided. Funds or equivalent in-kind must be available at the time the cooperative agreement is entered into. Points will be awarded as follows:

25% to 35% Match | 5 points.
>35% to 50% Match | 8 points.
>50% to 75% Match | 12 points.
>75% Match | 15 points.

3. Economic Need of Community (Up to 20 points)—Projects entirely in Empowerment Zones, Enterprise Communities, and Champion Communities will automatically receive the full 20 points. Otherwise, points will be awarded for demonstrated economic need based on the local community 10-year average poverty rate as compared to the respective State 10-year average poverty rate. Applicants may use county poverty rates for served communities. When multi-communities proposals are submitted, the over-all average for all counties will be used. Applicants must provide 10 years of poverty data for each targeted community in their respective State. Points will be awarded based on the amount the local community poverty rate exceeds the State average as following. Percents will be rounded to the next whole number.

Less than 10% | 0 points.
10-15 | 5 points.
16-20 | 8 points.
21-25 | 12 points.
26-30 | 16 points.
Greater than 30 | 20 points.

4. Previous Accomplishments (Up to 10 points)—A point will be awarded to those 1890 Institutions for each year they have been awarded a cooperative agreement under this program up to 8 years. An additional 2 points shall be given to each institution that has received a cooperative agreement for the last 5 years (1997-2001). This criterion is meant to reward those institutions that have repeatedly participated in this program and shown their expertise and commitment to the program. Applicants must provide evidence of satisfactorily completing the agreement for each year that they claim for credit.

5. Service Area (Up to 10 points)—This criterion will be evaluated based upon the number of people directly assisted in the targeted communities. “Directly assisted” means those people that attend classes, workshops, or conferences sponsored by the applicant or received direct one-on-one technical assistance such as loan packaging activities. Points will be awarded based upon the ratio of the number of people served to the total Federal dollars received through the cooperative agreement (number of people served/Federal dollars). Higher points will be awarded to those proposals with the highest number of people served per Federal dollar ratio.

6. Technology Outreach (Up to 15 points)—This criterion is meant to evaluate the applicant's level of outreach and capacity to provide innovative and effective computer technology outreach to the underserved targeted rural communities. Points will be awarded based on the number of computer-related classes, the number of hits made in a business information system network, and the number of people assisted in a one-on one computer technology training.

A maximum of 10 points will be awarded based upon ratio of number of people reached via technology using the above items to the total Federal dollars received through the cooperative agreement (number of people reached/Federal dollars). Higher points will be awarded to those proposals with the highest number of people reached to Federal dollar ratio.

Up to 5 additional points may be awarded based on the qualification and subject skill level of the individuals directly conducting the technology outreach activities. Applicants must provide sufficient information for the evaluation panel to properly rate this technology criterion.

7. Business Economic Development Activities (Up to 20 points)—This criterion is meant to evaluate the applicant's ability to impact business economic development by (saving or creating jobs), starting new businesses, and promoting USDA-Rural Development programs in targeted rural communities. This shall be done by conducting business-related classes for entrepreneurs and providing one-on-one technical help (such as preparing feasibility studies and packaging loans), and providing the type of technical assistance that will result in new businesses. Promoting USDA-Rural Development programs can be demonstrated by conducting workshops or conferences in the targeted communities using the agency's published resources and, if possible personnel. Points will be awarded as follows:

1 point for every type of activity listed above up to 10 points

1 point for each outreach activity to promote RBS programs up to 5 points

Up to 5 additional points may be awarded for this criterion based on the qualification and subject skill level of the individual directly conducting the business economic development outreach activities. Applicants must provide sufficient information for the evaluation panel to properly rate this criterion.

Projected number of jobs saved or created, new business starts, and one on one assistance must be as realistic as possible. The Agency reserves the right to reduce applicant's scores if it is determined that the numbers projected, quality of the courses taught or the resource materials used for conducting workshops and conferences are below the standards needed to achieve the stated objectives.

Deliverables

During the term of the negotiated agreements, the recipients will deliver quarterly reports of progress of the work to RBS and prepare and deliver a final report detailing all work done and results accomplished. In addition, all reports forwarded to RBS must be forwarded to the Rural Development State Office. Also, upon request by RBS, the recipient will deliver manuscripts, videotapes, software, or other media, as may be identified in approved proposals. RBS retains those rights delineated in 7 CFR 3019.36. Also, the recipients will deliver project outreach success stories and other project related information requested by RBS for use on the Web site (http://BISNet.cmps.subr.edu).

Award Amount

In the event that the applicant is to receive an award that is less than the amount requested, the applicant will be required to modify the application to conform to the reduced amount before execution of the cooperative agreement. RBS reserves the right to reduce or de-obligate any award if acceptable modifications are not submitted by the awardees within 10 working days from the date the application is returned to the applicant. Any modification must be within the scope of the original application.

Recipient Requirements

Institutions that are awarded a cooperative agreement will be responsible for the following:

(1) Completing the objectives as defined in the approved proposal.

(2) During the term of the agreement, keep up-to-date records on the project, and on or prior to October 7, January 6, April 7, and July 7, make quarterly reports of the progress of the work to RBS, and prepare a final report detailing all work done and results accomplished. All reports will be forwarded to RBS headquarters and to the Rural Development State Office.

(3) Submit to RBS, on a quarterly basis, Form SF-270, “A Request for Advance or Reimbursement.”

(4) Keep an account of expenditures of the Federal dollars and matching fund dollars and provide to RBS, Form SF-269, “A Financial Status Report,” with each Form SF-270 submitted, and a final SF-269 within 90 days of the project's completion.

(5) Immediately refund to RBS, at the end of the agreement, any balance of unobligated funds received from RBS.

(6) Provide matching funds or equivalent in-kind in support of the project, at least to the level agreed to in the accepted proposal.

(7) Conduct seminars to disseminate Rural Development program information to stimulate business and economic development in selected rural communities.

(8) Participate in the RBS Entrepreneurship Conferences when planned.

(9)In cooperation with local businesses, develop a program of business startup and technical assistance that will assist with new company development, business planning, new enterprise, franchise startup and consulting, business expansion studies, marketing analysis, cashflow management, and seminars and workshops for small businesses.

(10) Provide office space, equipment, and supplies for all personnel assigned to the project.

(11) Develop management and technical assistance plans in cooperation with RBS State Office that will:

(a) Assess small business alternatives to traditional agricultural and other natural resources-based industries;

(b) Assist in the development of business plans and loan packages, marketing, bookkeeping assistance, and organizational sustainability; and

(c) In cooperation with RBS State Office, provide technical assistance and training in customer relations, product development, and business planning and development.

(12) Assess the need for and, if necessary, conduct a feasibility study of local community weaknesses and strengths, feasible alternatives to agriculture production, and the needed infrastructure to expand or develop new or existing businesses. The plans for any such studies must be submitted for approval prior to the study being conducted.

(13) In cooperation with the RBS State Office, provide community leaders with advice and recommendations regarding best practices in community economic development stimulus programs for their communities.

(14) Establish and maintain the BISNet web site, linking community leaders and residents to available economic development information.

(15) Assure and certify that it is in compliance with, and will comply in the course of the agreement with, all applicable laws, regulations, Executive Orders, and other generally applicable requirements, including those set out in 7 CFR part 3015, 3015.205(b) and 7 CFR part 3019.

(16) Federal funds can only be used to pay meeting related travel expenses, if the employees are performing a service of direct benefit to the Government directly in furtherance of the objectives of the proposed agreement. Therefore, Federal funds cannot be used to pay non-Federal employees to attend meetings.

(17) Not commingle or use program funds for administrative expenses to operate an Intermediary Relending Program (IRP).

(18) As a cooperative agreement and not a grant, the 1890 Institution will collaborate with the RBS State Office in performing the tasks in the agreement as needed and will provide RBS National Office with the necessary information for RBS to do the following:

(a) Monitor the program as it is being implemented and operated, including monitoring of financial information to ensure that there is no commingling or use of program funds for administrative expenses to operate an IRP or other unapproved items.

(b) Halt activity, after written notice, if tasks are not met.

(c) Review and approve changes to key personnel.

(d) Provide guidance in the evaluation process and other technical Assistance as needed.

(e) Approve the final plans for the community business workshops, business and economic development sessions, and training workshops to be conducted by the Institution.

(f) Provide reference assistance as needed to the Institution for technical assistance given on a one-on-one basis to entrepreneurs and startup businesses.

(g) Review and comment upon strategic plans developed by the Institution for targeted areas.

(h) Review economic assessments made by the Institution for targeted counties so that RBS can indicate which of its programs may be beneficial.

(i) Carefully screen the project to prevent First Amendment violations.

(j) Monitor the program to ensure that a BISNet link is established and maintained.

(k) Provide technical assistance and training to BISNet Hub-sites and Wide Area Network (WAN) Team Members at the universities in preparing economic development information for posting on the Internet.

(l) Allow the RBS State Office to conduct a semi-annual on-site review and submit written reports to the National Office.

Content of a Proposal

A proposal should contain an original and two copies of each of the following:

(1) Completed Forms.

(i) Form SF-424, “Application for Federal Assistance.”

(ii) Form SF-424A, “Budget Information—Non-Construction Programs.”

(iii) Form SF-424B, “Assurances—Non-Construction Programs.”

(iv) Form AD-1047, “Certification Regarding Debarment, Suspension, and Other Responsibility Matters—Primary Covered Transactions.”

(v) Form AD-1049, “Certification Regarding Drug-Free Workplace Requirements.”

(2) Table of Contents: For ease of locating information, each proposal must contain a detailed Table of Contents immediately following the required forms. The Table of Contents should include page numbers for each component of the proposal. Pagination should begin immediately following the Table of Contents.

(3) Project Executive Summary: A summary of the Project Proposal, not to exceed one page.

(4) Project Proposal: The application must contain a narrative statement describing the nature of the proposed outreach initiative. The proposal must include at least the following:

(i) Project Title Page. Should include the following: title of the project, names of principal investigators, and applicant organization.

(ii) Introduction. A concisely worded justification or rationale for the outreach initiative must be presented. Included should be a summarization of social and economical statistical data (income, population, employment rate, poverty rate, education attainment, etc.), of the target area which substantiates the need for the outreach initiative. Note in this section if the target area includes an Employment Zone/Champion Community.

(iii) Workplan. Discuss the approach (strategy) to be used in carrying out the proposed outreach initiative and accomplishing the objectives. A description of any subcontracting arrangements to be used in carrying out the project must be included. Also, the workplan must include:

(a) Overview of the project objectives and goals: Identify and discuss the specific goals and objectives of the project and the impact of the outreach initiative on end-users;

(b) Timeframe: Develop a tentative schedule for conducting the major steps of the outreach initiative;

(c) Milestones: Describe and quantify the expected outcome of the specific outreach objective, including jobs created or assisted, conferences and seminars conducted and number of participants, loans packaged, etc.;

(d) Recipient involvement: Identify the person(s)who will be performing the activities; and

(e) RBS involvement: Identify RBS staff responsible for assisting and monitoring the activities.

(iv) Estimated Budget. Detail budget justification including matching funds.

(v) Leveraging Funds. Other institutional support of this outreach initiative project.

(vi) Coordination and Management Plan. Describe how the project will be coordinated among various participants, nature of the collaborations and benefits to participants, the communities, the applicant, and RBS. Describe plans for management of the project to ensure its proper and efficient administration. Describe scope of RBS involvement in the project.

(vii) Technology Outreach. The proposal should address the applicant's ability to deliver computer technology to the targeted rural communities and implement and maintain a computer network system linking community leaders and residents to available economic development information.

(viii) Key Personnel Support. The proposal should include curriculum vitae for the principal investigator and other key personnel used to carry out the goals and objectives of the proposal.

(ix) Facilities or Equipment. Where the project will be located (housed) and what other equipment is needed or already available to carry out the specific objectives of the project.

(x) Previous Accomplishments. Summarize previous accomplishments of outreach work funded by RBS or similar outreach experiences.

(xi) Local Support. Letters of support from the local community such as businesses, local government, community-based organization, etc.

(xii) Any other information necessary for RBS to approve and rank your proposal.

Additionally you are encouraged to provide any strategic plan that has been developed to assist business development or entrepreneurship for the targeted communities.

What To Submit

All applicants for the cooperative agreement must submit a completed original, plus two copies of the proposal for this competitive program.

Other Federal Statutes and Regulations That Apply

Several other Federal statutes and regulations apply to proposals considered for review and to cooperative agreements awarded. These include, but are not limited to:

7 CFR part 15, subpart A—Nondiscrimination in Federally Assisted Programs of the Department of Agriculture—Effectuation of Title VI of the Civil Rights Act of 1964

7 CFR part 3015—Uniform Federal Assistance Regulations

7 CFR part 3017—Governmentwide Debarment and Suspension (Nonprocurement) and Governmentwide Requirements for Drug-Free Workplace (Grant)

7 CFR part 3018—New Restrictions on Lobbying

7 CFR part 3019—Uniform Administrative Requirements for Grants and Agreements with Institutions of Higher Education, Hospitals, and Other Non-Profit Organizations

7 CFR part 3052—Audits of States, Local Governments, and Non-Profit Organizations

Paperwork Reduction Act

The collection of information requirements contained in this notice have received temporary emergency clearance by the Office of Management and Budget (OMB) under Control Number 0570-0041. However, in accordance with the Paperwork Reduction Act of 1995, RBS will seek standard OMB approval of the reporting requirements contained in this Notice and hereby opens a 60-day public comment period.

Abstract

Approximately $1.5 million will be made available for cooperative agreements between RBS and the nation's 1890 Land Grant Institutions and Tuskegee University. The agreements are for the purpose of outreach, to small rural communities, to develop programs that will develop future entrepreneurs and businesses in rural America in those communities that have the most economic need. These programs must provide sustainable development that is in keeping with the needs of the community and are designed to help overcome current identified economic problems. Proposals in both traditional and non-traditional business enterprises are encouraged. The initiative seeks to create a working partnership between 1890 Institutions and Tuskegee University and RBS through cooperative agreements.

Public Burden in This Notice

Form SF-424, “Application for Federal Assistance”

This application is used by applicants as a required face sheet for applications for Federal funding.

Form SF-424A, “Budget Information—Non-Construction Programs”

This form must be completed by applicants to show the project's anticipated budget breakdown in terms of expense categories and division of Federal and non-Federal sources of funds.

Form SF-424B, “Assurances—Non-Construction Programs”

This form must be completed by the applicant to provide the Federal Government certain assurances of the applicant's legal authority to apply for Federal assistance and financial capability to pay the non-Federal share of project costs. The applicant also assures compliance with various legal and regulatory requirements as described in the form.

Form SF-270, “Request for Advance or Reimbursement”

This form must be completed by the funded recipient certifying that, to the best of its knowledge and belief, the data submitted are correct and that outlays were made in accordance with the grant conditions or other agreement, and the payment is due and has not been previously requested.

Form SF-269, “Financial Status Report”

This form must be completed by the funded recipient certifying that, to the best of its knowledge and belief, this report is correct and complete and that all outlays and unliquidated obligations are for the purposes set forth in the award document.

Project Proposal

The applicant must submit a project proposal containing the elements described in this notice and in the format prescribed. The application must contain a narrative statement describing the nature of the proposed outreach initiative.

Reporting Requirements

Funded recipients will be required to submit written project performance reports quarterly and a final report highlighting successes over the course of the project.

Recordkeeping Requirements

Regulations require that financial records, supporting documents, statistical records, and all other records pertinent to the award, will be retained for a period of at least 3 years after the agreement closing. The exception that records will be retained beyond 3 years is if audit findings have not been resolved.

Estimate of Burden: Public reporting burden for this collection is estimated to range from 15 minutes for some forms to 15 hours for the proposal per response.

Respondents: Only 1890 Land Grant Institutions of Higher Education and Tuskegee University.

Estimated Number of Respondents: 17.

Estimated Number of Responses Per Respondent: 3.

Estimated Number of Responses: 293.

Estimated Total Annual Burden on Respondents: 743 hours.

Copies of this information collection can be obtained from Cheryl Thompson, Regulations and Paperwork Management Branch (202) 692-0043.

Comments

Comments are invited on: (a) Whether the proposed collection of information is necessary for the proper performance of the functions of RBS, including whether the information will have practical utility; (b) the accuracy of RBS's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to Cheryl Thompson, Regulations and Paperwork Management Branch, Rural Development, U.S. Department of Agriculture, Stop 0742, 1400 Independence Avenue SW., Washington, DC 20250-0742. All responses to this notice will be summarized and included in the request for OMB approval. All comments will become a matter of public record.

Dated: July 10, 2002.
John Rosso,
Administrator, Rural Business-Cooperative Service.

[FR Doc. 02-17714 Filed 7-12-02; 8:45 am]

BILLING CODE 3410-XY-P